DEPARTMENT OF THE INTERIOR

Bureau of Reclamation

[INT-DES-05-40]

Carlsbad Project, New Mexico

AGENCY: Bureau of Reclamation, Interior.

ACTION: Notice of Availability and Notice of Public Meetings for the Draft Environmental Impact Statement for Carlsbad Project Water Operations and Water Supply Conservation.

SUMMARY: Pursuant to the National Environmental Policy Act (NEPA) of 1969 (as amended), the Bureau of Reclamation (Reclamation) and the New Mexico Interstate Stream Commission, as joint lead agencies, have prepared a draft environmental impact statement (DEIS) to assess the consequences of proposed changes in the operation of Sumner Dam and the implementation of a water acquisition program in the Pecos River Basin. The Carlsbad Project Water Operations and Water Supply Conservation DEIS includes a description of alternative means of implementing the proposed federal action and presents an evaluation of the environmental, economic, and social consequences that could result from implementing these alternatives.

These proposed changes in water operations are designed to conserve the Pecos bluntnose shiner (Notropis simus pecosensis) (shiner) and its designated critical habitat. The water acquisition program is proposed to conserve the Carlsbad Project water supply. In 1987, the U.S. Fish and Wildlife Service listed the shiner, a small minnow, as a threatened species and designated two noncontiguous river reaches, totaling approximately 101 miles of the Pecos River, as critical habitat. The shiner has undergone significant population declines and range contraction in the last 65 years and is now restricted to about 194 miles from Fort Sumner State Park to Brantley Reservoir. Lower base flows, lower peak flows, and extended duration of peak flows along with river channel degradation, drought, and intermittency have contributed to loss of habitat and increased mortality (U.S. Fish and Wildlife Service, 2003).

DATES: A 60-day public review period commences with the publication of this notice. Written comments on the DEIS should be submitted no later than October 31, 2005, to Ms. Marsha Carra, Bureau of Reclamation, Albuquerque Area Office, 555 Broadway NE., Suite 100, Albuquerque, New Mexico 87102.

Reclamation will conduct four public meetings to obtain public input on the DEIS. All meetings will take place from 7 p.m. to 9 p.m. The public meetings schedule is as follows:

• September 19, 2005—Bureau of Land Management Conference Room, 2909 West 2nd Street, Roswell, New Mexico

• September 20, 2005—Pecos River Village Conference Center, Room 3, 711 Muscatel, Carlsbad, New Mexico

• September 21, 2005—Village Community House, 204 North 4th Street, Ft. Sumner, New Mexico

• September 22, 2005—City Hall Meeting Room, 141 5th Street, Santa Rosa, New Mexico

ADDRESSES: Copies of the DEIS are available for public inspection and review at the following locations:

• Albuquerque Main Library, 501 Copper NW., Albuquerque, New Mexico 87102

• Bureau of Reclamation, Albuquerque Area Office, 555 Broadway NE., Suite 100, Albuquerque, New Mexico 87102

• Carlsbad Irrigation District, 201 South Canal Street, Carlsbad, New Mexico 88220

The DEIS is also available on the Internet at the following Web address: http://www.usbr.gov/uc/albuq/library/eis/carlsbad/carlsbad.html.

FOR FURTHER INFORMATION CONTACT: Ms. Marsha Carra, Bureau of Reclamation, Albuquerque Area Office, 555 Broadway NE., Suite 100, Albuquerque, New Mexico 87102; telephone (505) 462-3602; facsimile (505) 462-3780; e-mail: mcarra@uc.usbr.gov or Ms. Coleman Smith, New Mexico Interstate Stream Commission, P.O. Box 25102, Santa Fe, New Mexico 87504; telephone (505) 476-0551, e-mail: coleman.smith@state.nm.us.

SUPPLEMENTARY INFORMATION: The purpose of Reclamation's proposed federal action is to avoid jeopardy to the Pecos bluntnose shiner and to conserve the Carlsbad Project water supply. To avoid jeopardy to the shiner means that Reclamation would ensure that any discretionary action they authorize, fund, or carry out is not likely to jeopardize the continued existence of a listed species or result in the destruction or adverse modification of critical habitat. Reclamation would continue to participate in interagency actions to protect federally-listed species and designated critical habitats, within their legal and discretionary authority. Conserving the Carlsbad Project water supply means delivering the amount of water to the project that would otherwise be available but for changes to operations. The need for Reclamation's action is to operate the Pecos River facilities so as not to jeopardize the continued existence of the shiner or destroy or adversely modify designated critical habitat and to maintain the Carlsbad Project water supply for authorized purposes. Without reoperation of Sumner Dam, stream flows in the Pecos River may be insufficient to meet basic habitat needs of the shiner and the future existence of the shiner may be in jeopardy. Without an accompanying program to acquire and provide water, reductions to the Carlsbad Project water supply would occur.

The proposed federal action that requires NEPA compliance is the reoperation of Sumner Dam to provide flows in the Pecos River to conserve the shiner, and the implementation of a water acquisition program to conserve the Carlsbad Project water supply. The alternatives vary in flow targets or minimum flows at the Taiban or Acme gages. Depending on the alternative, these targets can be constant or variable by time of year or whether river conditions are dry, average, or wet. Action alternatives also include common guidance for block releases, a habitat conservation pool, an adaptive management plan, and implementation of an interagency management agreement. Reduction to Carlsbad Project water resulting from changes in operations to conserve the shiner would be offset through a variety of options that are analyzed independently of the alternatives. Other options have been developed to acquire water to directly augment river flows for the benefit of the shiner. Implementation of some of these options would require additional authorization, permitting, and project-specific NEPA analysis.

After the 60-day waiting period, Reclamation will complete a final environmental impact statement (FEIS). Responses to comments received from organizations and individuals on the DEIS will be addressed in the FEIS.

Public Disclosure

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: August 25, 2005.
William E. Rinne,
Deputy Commissioner, Bureau of Reclamation.

[FR Doc. 05-17265 Filed 8-31-05; 8:45 am]

BILLING CODE 4310-MN-P